DEPARTMENT OF HOMELAND SECURITY

Coast Guard

33 CFR Part 165

[Docket No. USCG-2025-0469]

Safety Zone; Southern California Annual Firework Events for the San Diego Captain of the Port Zone

AGENCY: Coast Guard, DHS.

ACTION: Notification of enforcement of regulation.

SUMMARY: The Coast Guard will enforce the safety zone for the Coronado Glorietta Bay Fourth of July Fireworks on the waters of San Diego Bay, CA on Friday, July 4, 2025. The safety zones are necessary to provide for the safety of the participants, spectators, official vessels of the event, and general users of the waterway. Our regulation for the Southern California Annual Firework Events for the San Diego Captain of the Port Zone identifies the regulated area for this event. During the enforcement period, no spectator shall anchor, block, loiter, nor impede the transit of participants or official patrol vessels in the regulated area unless cleared to do so by or through an official patrol vessel.

DATES: The regulations in 33 CFR 165.1123 will be enforced from 8 p.m. until 10 p.m. on July 4, 2025, for the locations described in Item No. 3 in Table 1 to § 165.1123.

FOR FURTHER INFORMATION CONTACT: If you have questions about this notice of enforcement, call or email Lieutenant Shelley Turner, Waterways Management, U.S. Coast Guard Sector San Diego, CA; telephone 619-278-7656, email MarineEventsSD@uscg.mil.

SUPPLEMENTARY INFORMATION: The Coast Guard will enforce the safety zone regulations in Southern California Annual Firework Events for the San Diego Captain of the Port Zone, 33 CFR 165.1123, for the Coronado Glorietta Bay Fourth of July Fireworks regulated area from 8 p.m. until 10 p.m. on July 4, 2025. This action is being taken to provide for the safety of life on navigable waterways during the fireworks event. Item No. 3 in Table 1 to § 165.1123 identifies the regulated area for the Coronado Glorietta Bay Fourth of July Fireworks event which encompasses multiple portions of San Diego Bay. Spectator vessels may safely transit outside the regulated area but may not anchor, block, loiter, or impede the transit of participants or official patrol vessels. The Coast Guard may be assisted by other Federal, State, or Local law enforcement agencies in enforcing this regulation.

In addition to this notice of enforcement in the Federal Register, the Coast Guard plans to provide notification of this enforcement period via the Local Notice to Mariners, marine information broadcasts, and local advertising by the event sponsor.

If the Captain of the Port or his designated representative determines that the regulated area need not be enforced for the full duration stated on this document, he or she may use a Broadcast Notice to Mariners or other communications coordinated with the event sponsor to grant general permission to enter the regulated area.

P.C. Dill,
Captain, U.S. Coast Guard, Captain of the Port San Diego.

[FR Doc. 2025-10682 Filed 6-11-25; 8:45 am]

BILLING CODE 9110-04-P